FEDERAL RESERVE SYSTEM

Change in Bank Control Notices; Acquisitions of Shares of a Bank or Bank Holding Company

The notificant listed below has applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 15, 2017.

A. Federal Reserve Bank of Chicago (Colette A. Fried, Assistant Vice President) 230 South LaSalle Street, Chicago, Illinois 60690-1414:

1. Stone Pillar Investments, Ltd., Chicago, Illinois; to acquire voting shares of Waupaca Bancorporation, Inc., Waupaca, Wisconsin; and thereby indirectly control First National Bank, Waupaca, Wisconsin.

Board of Governors of the Federal Reserve System, January 26, 2017.
Yao Chin Chao,
Assistant Secretary of the Board.

[FR Doc. 2017-02063 Filed 1-31-17; 8:45 am]

BILLING CODE 6210-01-P